DEPARTMENT OF THE INTERIOR

National Park Service

[NPS-WASO-NAGPRA-NPS0038012; PPWOCRADN0-PCU00RP14.R50000]

Notice of Intended Repatriation: University of Nebraska State Museum, University of Nebraska-Lincoln, Lincoln, NE

AGENCY: National Park Service, Interior.

ACTION: Notice.

SUMMARY: In accordance with the Native American Graves Protection and Repatriation Act (NAGPRA), the University of Nebraska State Museum intends to repatriate certain cultural items that meet the definition of unassociated funerary objects and that have a cultural affiliation with the Indian Tribes or Native Hawaiian organizations in this notice.

DATES: Repatriation of the cultural items in this notice may occur on or after July 3, 2024.

ADDRESSES: Taylor Ronquillo NAGPRA Project Manager, University of Nebraska State Museum, University of Nebraska of Nebraska-Lincoln, 645 N 14th Street, Lincoln, NE 68588, telephone (402) 472-6592, email tronquillo2@unl.edu and Susan Weller NAGPRA Coordinator, University of Nebraska State Museum, University of Nebraska of Nebraska-Lincoln, 645 N 14th Street, Lincoln, NE 68588, telephone (402) 472-0577, email sweller2@unl.edu.

SUPPLEMENTARY INFORMATION: This notice is published as part of the National Park Service's administrative responsibilities under NAGPRA. The determinations in this notice are the sole responsibility of the University of Nebraska State Museum, and additional information on the determinations in this notice, including the results of consultation, can be found in the summary or related records. The National Park Service is not responsible for the determinations in this notice.

Abstract of Information Available

A total of four cultural item has been requested for repatriation.

One of unassociated funerary objects is one lot of beads. This item was donated by J.W. Markin in 1937 to UNSM. The museum was not provided with any additional information.

One unassociated funerary object is one lot of beads. This item was donated by C.B. Shultz and the LeMar Field Party in 1928. The exact excavation site is described as: “One mile south, 3 miles west of Republican City.” Field notes state “dug some Indian material from old sacrificial burial grounds.”

One unassociated funerary object is one necklace. This item was donated by Thomas and Delta Cain in 1991. The museum was not provided with any other information. This item is eight pieces of shell formed into disc-shaped beads.

One unassociated funerary object is one lot of beads. This item was donated to UNSM by J.W. Markin in 1937. No other information was given to the museum.

Determinations

The University of Nebraska State Museum has determined that:

• The four unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Pawnee Nation of Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 3, 2024. If competing requests for repatriation are received, the University of Nebraska State Museum must determine the most appropriate requestor prior to repatriation. Requests for joint repatriation of cultural items are considered a single request and not competing requests. The University of Nebraska State Museum is responsible for sending a copy of this notice to the Indian Tribes and Native Hawaiian organizations identified in this notice and to any other consulting parties.

Authority: Native American Graves Protection and Repatriation Act, 25 U.S.C. 3004 and the implementing regulations, 43 CFR 10.9.

Dated: May 22, 2024.
Melanie O'Brien,
Manager, National NAGPRA Program.

[FR Doc. 2024-12072 Filed 5-31-24; 8:45 am]

BILLING CODE 4312-52-P